DEPARTMENT OF HEALTH AND HUMAN SERVICES

Meeting of the Presidential Advisory Council on Combating Antibiotic-Resistant Bacteria; Correction

AGENCY: Office of the Assistant Secretary for Health, Office of the Secretary, Department of Health and Human Services.

ACTION: Notice; correction.

SUMMARY: The Department of Health and Human Services published a document in the Federal Register of August 18, 2016, containing language indicating that a meeting is tentatively scheduled to be held of the Presidential Advisory Council on Combating Antibiotic-Resistant Bacteria (Advisory Council) on September 19, 2016. The DATES AND TIMES section contained incorrect language.

FOR FURTHER INFORMATION CONTACT: Ayah Wali by email at CARB@hhs.gov.

Correction

In the Federal Register of August 18, 2016, Vol. 81, No. 160, on page 55205, in the second column, DATES AND TIMES, correct to read:

DATES AND TIMES: The meeting is scheduled to be held on September 19, 2016, from 12:30 p.m. to 5:30 p.m. ET (times are tentative and subject to change). The confirmed times and agenda items for the meeting will be posted on the Web site for the Advisory Council at http://www.hhs.gov/ash/carb/ when this information becomes available. Pre-registration for attending the meeting in person is required to be completed no later than September 14, 2016; public attendance at the meeting is limited to the available space.

Dated: August 22, 2016.
Bruce Gellin,
Designated Federal Officer, Presidential Advisory Council on Combating Antibiotic-Resistant Bacteria, Deputy Assistant Secretary for Health.

[FR Doc. 2016-20524 Filed 8-25-16; 8:45 am]

BILLING CODE 4150-44-P